NUCLEAR REGULATORY COMMISSION

Environmental Assessment and Finding of No Significant Impact for Amendment To Exempt Distribution License No. 20-23904-01E for GE Homeland Protection, Inc., and Request for Exemption From 10 CFC 32.26 Requirements

I. Introduction

The U.S. Nuclear Regulatory Commission (NRC) is considering the issuance of an amendment to Exempt Distribution License No. 20-23904-01E held by GE Homeland Protection, Inc. (hereafter GE). GE currently possesses Sealed Source and Device (SSD) Certificate No. NR-0399-D-101-E and Exempt Distribution License No. 20-23904-01E that authorizes, under Title 10, Code of Federal Regulations (10 CFR), Section 32.26, “Gas and aerosol detectors containing byproduct material” to distribute intact Entryscan explosives/narcotics walk-through detection devices to persons exempt from licensing under 10 CFR 30.20. Issuance of the amendment would allow GE to service the Entryscan devices at customer sites, and to allow GE to ship the Entryscan devices in parts for final assembly at customer sites. Issuance of the amendment would allow GE to be exempt from the requirements of 10 CFR 32.26. GE requested this action by letters dated November 29, 2006 and May 13, 2007. The NRC has prepared an Environmental Assessment (EA) in support of this proposed action in accordance with the requirements of Title 10, Code of Federal Regulations Part 51 (10 CFR Part 51). Based on the EA, the NRC has concluded that a Finding of No Significant Impact (FONSI) is appropriate with respect to the proposed action. The amendment will be issued to the Licensee following the publication of this FONSI and EA in the Federal Register.

II. Environmental Assessment

1.0 Background

The NRC staff has evaluated the environmental impacts of an exemption from the provisions of 10 CFR 32.26 and the amendment to allow GE to service Entryscan explosives/narcotics walk-through detection devices at customer sites, and to allow GE to ship the Entryscan devices in parts for final assembly at customer sites.

The Entryscan devices are walk-through units designed to detect explosives and narcotics. These units are used in-doors at high-security locations, such as airports, seaports, military facilities, and U.S. Customs sites. Each unit has a length of 40.00-56.00 in. (1016.00-1422.40 mm), a width of 57.43-64.00 in. (1458.72-1625.60 mm), and a height of 92.50-102.00 in (2349.50-2590.80 mm). Each unit contains a solid 10 mCi, Ni-63 encapsulated source mounted in a ceramic cell having a wall thickness of 0.39 in. (10 mm). The ceramic cell (detector cell) is mounted inside an aluminum rectangular box (detector housing) having dimensions 7.09 x 2.87 x 2.64 in. (180 x 73 x 67 mm) and a wall thickness of 0.062 in. (1.6 mm); the detector cell and housing together comprise the detector head. The detector head is mounted in the upper cabinet assembly of the unit. GE currently possesses Sealed Source and Device (SSD) Certificate No. NR-0399-D-101-E and Exempt Distribution License No. 20-23904-01E that authorize, under Title 10 of the Code of Federal Regulations (10 CFR), Section 32.26, “Gas and aerosol detectors containing byproduct material”, GE to distribute intact Entryscan devices to persons exempt from licensing under 10 CFR 30.20.

By letters dated November 29, 2006 and May 13, 2007, GE requested an amendment and exemption to allow GE Field Service Engineers to remove and exchange failed detector heads inside Entryscan units at customer sites, and to allow GE to distribute the Entryscan units in parts for final assembly at the customer sites.

2.0 Proposed Action

The proposed action is to issue an amendment to License No. 20-23904-01E and an exemption from 10 CFR 32.26 to allow GE Field Service Engineers to service Entryscan explosives/narcotics walk-through detection devices at customer sites, and to allow GE to ship the Entryscan devices in parts for final assembly at customer sites. Specifically, the proposed action regarding servicing is to permit GE Field Service Engineers to remove and replace a failed detector head at a customer site, rather than requiring the entire Entryscan unit be returned to a GE distribution facility for repair. The proposed action regarding shipping is to permit GE to ship an Entryscan unit in parts from the GE distribution facility, with the upper cabinet assembly containing the mounted detector head shipped in a separate crate, rather than requiring that the entire Entryscan unit be shipped from the licensed distribution facility as one fully assembled unit.

There are over 300 Entryscan units that are currently deployed, or have the potential to be deployed, throughout all Agreement and Non-Agreement States. GE currently estimates that to replace a failed detector head at the customer site would take approximately one (1) hour in accordance with this exemption. GE would ship a new detector head to the customer site, where a GE Field Service Engineer would perform the replacement. The detector head would not be opened during the servicing; the radioactive sealed source would not be accessed, handled directly, or manipulated in any manner at the customer site. The failed detector head would then be returned to a licensed GE facility for disassembly and repair.

GE would ship the Entryscan units that have been crated in parts. It would take five to seven business days to deliver and install an Entryscan unit in the United States that has been crated in parts for shipment. The detector head would remain mounted and not be removed from the upper cabinet assembly at any time during the shipping and final assembly at the customer site. GE Field Service Engineers would perform the proposed installation and final assembly.

2.1 Need for Proposed Action

Regarding servicing, on occasion, the detector head may fail due to an electrical or mechanical malfunction. The Entryscan unit is not operational when this happens and the impacted security lane at the customer site must be taken out of service until the repairs can be made. This causes interruption to the explosives and narcotics detection capabilities at these locations. In the event of a failed detector head requiring replacement, this exemption would allow GE to ship a replacement sealed detector head directly to the customer site, replace the non-functioning detector head at the customer site, then physically ship the non-functioning detector head back to the GE distribution facility for repair. This would also minimize the Entryscan unit's downtime and the loss of security service at the customer site by allowing GE to return the inoperative unit to service within a few days, as opposed to within ten to fourteen days, which is the case if the entire unit is returned to the manufacturing facility for repair.

Regarding shipment in parts, a fully assembled and crated Entryscan unit weighs up to 875 pounds. A fully assembled Entryscan unit is too large to deliver into most buildings. Its height impacts its ability to fit through a standard loading dock and its width impacts its ability to be moved to a point of use within a building. Additionally, a fully assembled Entryscan unit would pose a significant risk of injury to personnel handling the unit. This exemption would allow delivery of the unassembled unit to the location of use at the customer site.

2.2 Environmental Impacts of Proposed Action

10 CFR 32.26 establishes the requirements for the distribution of gas and aerosol detectors containing byproduct material to persons exempt from licensing under 10 CFR 30.20. Products licensed under 10 CFR 32.26 are required to meet the safety criteria defined under 10 CFR 32.27 to ensure the protection of public health and safety and the environment under normal and severe use, handling, storage, and disposal of the products. The intact Entryscan unit has been evaluated and licensed under SSD Certificate No. NR-0399-D-101-E and Exempt Distribution License No. 20-23904-01E to meet such criteria. The affected environments would be the immediate vicinity of the Entryscan units and the GE distribution facilities.

Each Entryscan unit contains a solid 10 mCi, Ni-63 encapsulated source mounted into the ceramic detector cell having a wall thickness of 0.39 in. (10 mm). The detector cell is mounted inside the detector housing that has a wall thickness of 0.062 in. (1.6 mm). After assembly during manufacturing, GE leak tests each detector cell for removable contamination. The detector head, comprised of the detector cell and housing, is mounted in the upper cabinet assembly of the unit and is not removable nor accessible to the user. Due to the shielding of the beta-radiation components of the detector cell with ceramic, and the aluminum housing, there is no possibility of contamination on any accessible surface of the detector housing or the external surface of the device. There is a very low probability of a beta particle from Ni-63 penetrating the ceramic detector cell. Additionally, the detector housing passed impact, puncture, pressure, vibration, and temperature prototype testing in accordance with International Standard ISO 2919, “Radiation protection—sealed radioactive sources—General requirements and classification” for normal use and likely accident conditions. However, accidents during servicing are not likely. GE Field Service Engineers have been trained to safely and properly handle, install, and secure detector heads during servicing. Through the licensing and SSD evaluation process, GE demonstrated that the Entryscan units meet the safety criteria for licensing under 10 CFR 32.26. The NRC therefore issued GE SSD Certificate No. NR-0399-D-101-E and Exempt Distribution License No. 20-23904-01E that authorizes GE to distribute the Entryscan devices to persons exempt from licensing under 10 CFR 30.20.

The Entryscan units would be serviced and assembled at, or very near, the indoor security checkpoints at the customer sites. During the replacement of the detector head and assembly of a unit, GE would cordon off the unit and place the security checkpoint lane out of service to prevent access to the general public. GE would verify that the work area is secured via cones or barriers before beginning work. Additionally, security staff at customer sites would impose traffic controls to prevent access to the cordoned off area. GE would maintain control of the detector head during servicing and final assembly at the customer site. The detector head would not be opened during the servicing or assembly of the unit; the radioactive sealed source would not be accessed, handled directly, or manipulated in any manner at the customer site. The detector head would not be left unattended during the replacement or assembly of the unit.

One non-radiological impact during the replacement of a detector head at the site may be an electrical hazard; the outer panels of the Entryscan unit may be taken off while the unit is electrically energized. This electrical hazard is minimized by proper use of Lockout-Tagout procedures. A second non-radiological impact during the shipment of the unit in parts and assembling at the customer site may be a risk for bodily injury to personnel assembling the unit at the point of use, although the risk would be lower than that posed if the unit were shipped in one piece. Contracted rigging crews would assist in the assembly of the unit at the customer site under the supervision of GE. A third non-radiological impact may be a risk of electrical shock during assembly. This electrical hazard is also minimized by proper use of Lockout-Tagout procedures. As discussed above, GE and security staff at the customer site would impose proper access restrictions, minimizing the risk to persons around the unit during replacement of a detector head and assembly of a unit. A fourth non-radiological impact may be the effects of security lane closure during servicing and assembly, which may cause delay in the security screening of people; a detector head would be replaced in approximately one hour.

The NRC staff has determined that the proposed action will not impact the quality of water resources because the Entryscan units would be located indoors. The NRC staff has also determined that the proposed request will not impact geology, soils, air quality, demography, biota, and cultural and historic resources under normal and severe handling, storage, use, and disposal. The NRC has determined that the benefits of this exemption exceed the radiological risks and risks of non-radiological impacts.

3.0 Alternatives to Proposed Action

3.1 Alternative 1: License Units Under General License Regulations

The first alternative would be to license the distribution of the Entryscan units under the equivalent Agreement State regulation of 10 CFR 32.51 for Generally Licensed Items, which would allow GE to service the units at customer sites and ship the units in parts.

3.2 Alternative 2: Dispose of Defective Units

A second alternative would be to dispose defective Entryscan units as normal waste as allowed for products distributed under 10 CFR 32.26, rather than repair the units for further use, and to ship the units in one piece.

3.3 Alternative 3: No-Action Alternative

The No-Action Alternative would be the denial of the proposed action. Under this alternative, GE would not be able to replace defective detector heads at customer sites, and would not be able to ship the units under their Exempt Distribution License. GE would therefore need to license the units under General License regulations.

4.0 Environmental Impacts of Alternatives

4.1 Alternative 1: License Units Under General License Regulations

The environmental impacts for the first alternative would be the same as for the proposed action. However, this alternative would increase the administrative and regulatory burden on the licensee, customers, and regulatory authorities. The additional burden would be requiring more frequent reporting by the licensee, requiring the end-users to appoint a person knowledgeable of pertinent regulations, requiring the end-users to leak test the units, and requiring the regulator to track the units.

4.2 Alternative 2: Dispose of Defective Units

The environmental impacts for the second alternative would be an increased level of contamination in the normal waste stream at customer sites, since the Entryscan units would be allowed to be disposed of as regular waste as allowed with exempt household smoke detectors licensed for distribution under 10 CFR 32.26.

4.3 Alternative 3: No-Action Alternative

The environmental impacts for the No-Action Alternative would be the same as for the first alternative and the proposed action. The burden, however, on the licensee, end-users, and regulators would be greater than that of the proposed action by requiring more frequent reporting by the licensee, requiring the end-users to appoint a person knowledgeable of pertinent regulations, requiring the end-users to leak test the units, and requiring the regulator to track the units.

5.0 Agencies and Persons Contacted

GE has distribution facilities located in Wilmington, MA, Newark, CA, and Lincolnton, NC. NRC contacted the radiation control programs of the States of Massachusetts, California, and North Carolina. These states had no objection to the proposed action in this EA.

NRC staff has determined that the proposed action will not affect listed species or critical habitat. Therefore, no further consultation is required under Section 7 of the Endangered Species Act. Likewise, NRC staff have determined that the proposed action is not the type of activity that has potential to cause effects on historic properties. Therefore, no further consultation is required under Section 106 of the National Historic Preservation Act.

6.0 Conclusion

The action that NRC is considering is to issue an amendment to License No. 20-23904-01E and an exemption from 10 CFR 32.26 to allow GE Field Service Engineers to service Entryscan explosives/narcotics walk-through detection devices at customer sites, and to allow GE to ship the Entryscan devices in parts for final assembly at customer sites. The NRC staff considered the environmental consequences of approving the license amendment and exemption, and has determined that the approval will have no adverse effect on public health and safety or the environment. Therefore, the NRC staff concludes that the proposed action is the preferred alternative, the environmental impacts associated with the proposed action do not warrant denial of the license amendment and exemption request.

7.0 Finding of No Significant Impact

The Commission has prepared this EA related to GE's exemption request. On the basis of this EA, the NRC finds that there are no significant environmental impacts from the proposed action, and that preparation of an environmental impact statement is not warranted. Accordingly, the NRC has determined that a Finding of No Significant Impact is appropriate.

8.0 References

1. SSD Certificate No. NR-0399-D-101-E.

2. NRC License No. 20-23904-01E.

3. GE letters dated November 29, 2006 and May 13, 2007, with enclosures thereto.

IV. Further Information

Questions regarding this action may be directed to Duncan White at (301) 415-2598 or by e-mail at ADW@nrc.gov.

Dated at Rockville, Maryland this 17th day of August, 2007.
For The Nuclear Regulatory Commission.
Janet Schlueter,
Director, Division of Materials Safety and State Agreements, Office of Federal and State Materials and Environmental Management Programs.

[FR Doc. E7-17878 Filed 9-10-07; 8:45 am]

BILLING CODE 7590-01-P